DEPARTMENT OF ENERGY

Federal Energy Regulatory Commission

[Project No. 14856-002]

America First Hydro LLC; Notice of Application Tendered for Filing With the Commission

Take notice that the following hydroelectric application has been filed with the Commission and is available for public inspection.

a. Type of Application: Subsequent Minor License.

b. Project No.: 14856-002.

c. Date Filed: March 30, 2020.

d. Applicant: America First Hydro LLC (America First Hydro).

e. Name of Project: Lower Mousam Project.

f. Location: The project is located on the Mousam River in York County, Maine. The project does not affect federal lands.

g. Filed Pursuant to: Federal Power Act, 16 U.S.C. 791(a)-825(r).

h. Applicant Contact: Ian Clark, America First Hydro LLC; 65 Ellen Ave, Mahopac, New York 10541, (914) 297-7645, or email at info@dichotomycapital.com.

i. FERC Contact: Michael Watts, (202) 502-6123 or michael.watts@ferc.gov.

j. The application is not ready for environmental analysis at this time.

k. Kennebunk Light and Power District currently owns and holds a license to operate and maintain the Lower Mousam Project as FERC Project No. 5362. On March 29, 2017, Kennebunk Light and Power District filed a notice stating that it does not intend to file an application for a subsequent license. In response to a solicitation notice issued by the Commission on May 15, 2017, America First Hydro filed a pre-application document and a notice of intent to file an application for a license for the Lower Mousam Project, pursuant to 18 CFR 5.5 and 5.6. Commission staff assigned Project No. 14856 for the licensing proceeding initiated by America First Hydro's filing.

l. Project Description:

The existing Lower Mousam Project consists of the following three developments:

Dane Perkins Development

The Dane Perkins Development consists of: (1) A 12-foot-high, 83-foot-long concrete gravity dam with a 50-foot-long spillway section that has a crest elevation of 81.8 feet mean seal level (msl) plus 2.5-foot-high flashboards; (2) a 25-acre impoundment with a normal maximum elevation of 84.3 feet msl; (3) a powerhouse containing a single turbine-generator unit rated at 150 kilowatts (kW); (4) a generator lead connecting the turbine-generator unit to the regional grid; and (5) appurtenant facilities.

Twine Mill Development

The Twine Mill Development is located approximately 0.5 mile downstream from the Dane Perkins Development and consists of: (1) An 18-foot-high, 223-foot-long concrete gravity dam with an 81-foot-long spillway section that has a crest elevation of 68.8 feet msl plus 3.0-foot-high flashboards; (2) a 12-acre impoundment with a normal maximum elevation of 71.8 feet msl; (3) a powerhouse containing a single turbine-generator unit rated at 300 kW; (4) a generator lead connecting the turbine-generator unit to the regional grid; and (5) appurtenant facilities.

Kesslen Development

The Kesslen Development is located approximately 2.5 miles downstream from the Twine Mill Development and consists of: (1) An 18-foot-high, 140-foot-long concrete gravity dam with a 114-foot-long spillway section that has a crest elevation of 42.2 feet msl plus 1.5-foot-high flashboards; (2) a 20-acre impoundment with a normal maximum elevation of 43.7 feet msl; (3) a powerhouse containing a single turbine-generator unit rated at 150 kW; (4) a generator lead connecting the turbine-generator unit to the regional grid; and (5) appurtenant facilities.

The current license requires an instantaneous minimum flow of 60 cubic feet per second (cfs) or inflow, whichever is less, downstream of the Kesslen Development from April 1 through June 1 each year; and a minimum flow of 5 cfs or inflow downstream of the Kesslen Development from June 2 through March 31. The licensee operates the project in a run-of-river mode on a voluntary basis.

America First Hydro proposes to increase the installed generation capacity at the Dane Perkins Development by replacing the existing 150-kW turbine-generator unit with two turbine-generator units that have a combined capacity of 270 kW. America First Hydro proposes to disconnect the generating equipment at the Kesslen Development and allow all flow to pass over the dam. America First Hydro also proposes to continue operating the project in a run-of-river mode.

m. Locations of the Application: A copy of the application may be viewed on the Commission's website at http://www.ferc.gov using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, please contact FERC Online Support at FERCOnlineSupport@ferc.gov, (866) 208-3676 (toll free), or (202) 502-8659 (TTY).

n. You may also register online at http://www.ferc.gov/docs-filing/esubscription.asp to be notified via email of new filings and issuances related to this or other pending projects. For assistance, contact FERC Online Support.

o. Procedural Schedule: On December 19, 2019, Commission staff suspended the Integrated Licensing Process for the project until America First Hydro filed the final license application. The suspension held the pre-filing process in abeyance, including the milestones for the study process. In accordance with 18 CFR 5.20, Commission staff will notify America First Hydro on or before April 29, 2020, as to whether or not the application substantially conforms to the pre-filing consultation and filing requirements of the Commission's regulations. To the extent that the application is not patently deficient, Commission staff will issue a revised process plan and schedule that includes milestones and dates for the filing and review of America First Hydro's outstanding study reports. After America First Hydro completes and files the outstanding study reports, Commission staff will issue a revised procedural schedule with target dates for the post-filing milestones listed below.

Milestone | Target date
Notice of Acceptance/Notice of Ready for Environmental Analysis | TBD.
Filing of recommendations, preliminary terms and conditions, and fishway prescriptions | TBD.
Commission issues Environmental Assessment (EA) | TBD.
Comments on EA | TBD.
Modified terms and conditions | TBD.

p. Final amendments to the application must be filed with the Commission no later than 30 days from the issuance date of the Notice of Ready for Environmental Analysis.

Dated: April 13, 2020.
Kimberly D. Bose,
Secretary.

[FR Doc. 2020-08184 Filed 4-16-20; 8:45 am]

BILLING CODE 6717-01-P